DEPARTMENT OF TRANSPORTATION

Federal Aviation Administration

14 CFR Part 71

[Docket No. FAA-2020-0567; Airspace Docket No. 20-AAL-15]

RIN 2120-AA66

Amendment to Federal Airways Amber 15 (A-15), V-444, J-502, J-511, and Extension of Canadian Area Navigation Routes Q-902 and Q-811; Alaska

AGENCY: Federal Aviation Administration (FAA), DOT.

ACTION: Final rule.

SUMMARY: This action amends Federal airways, A-15, V-444, J-502, and J-511 in Alaska. It also establishes an extension of two Canadian Area Navigation Q routes, Q-902, and Q-811. The modifications are necessary due to the decommissioning of the Burwash Non-Directional Beacon (NDB) in Yukon Territory, Canada, which provides navigation guidance for portions of the affected routes. The Burwash NDB was decommissioned effective March 26, 2020 due to ongoing maintenance problems and logistic issues.

DATES: Effective date 0901 UTC, October 7, 2021. The Director of the Federal Register approves this incorporation by reference action under 1 CFR part 51, subject to the annual revision of FAA Order 7400.11 and publication of conforming amendments.

ADDRESSES: FAA Order 7400.11E, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11E at NARA, email: fedreg.legal@nara.gov or go to https://www.archives.gov/federal-register/cfr/ibr-locations.html.

FOR FURTHER INFORMATION CONTACT: Christopher McMullin, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the air traffic service route structure in the National Airspace System as necessary to preserve the safe and efficient flow of air traffic.

History

The FAA published a notice of proposed rulemaking for Docket No. FAA-2020-0567 in the Federal Register (85 FR 38799; June 29, 2020) amending Federal airways A-15, V-444, J-502, and J-511 in Alaska. A supplemental notice of proposed rulemaking was also published for Docket No. FAA-2020-0567 in the Federal Register (85 FR 60108 September 24, 2020) amending Federal airways J-502, and J-511 in Alaska, and establishing two Q routes, Q-902, and Q-811. Interested parties were invited to participate in this rulemaking effort by submitting written comments on the proposal. No comments were received.

Colored and Alaskan VOR Federal airways are published in paragraph 6009 and 6010(b), Jet routes are published in paragraph 2004, and Canadian Area Navigation Routes are published in paragraph 2007 of FAA Order 7400.11E dated July 21, 2020, and effective September 15, 2020, which is incorporated by reference in 14 CFR 71.1. The Federal airways, jet routes, and Canadian Area Navigation routes listed in this document will be subsequently published in the Order.

Differences From the NPRM

In the supplemental NPRM published in the Federal Register (85 FR 60108; September 24, 2020) proposal section addressing the establishment of Q-811 and Q-902, they were referred to as Alaskan Air Navigational routes, which was stated in error. This same error was made in the proposed amendment section. Q-811 and Q-902 are extensions of Canadian Area Navigation routes that extend into Alaskan airspace and should be referenced under paragraph 2007. This rule corrects that editorial error in the amendment section.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

The Rule

This action amends 14 CFR part 71 by modifying Federal airways A-15, and V-444, jet routes J-502, and J-511, and Canadian Area Navigation RoutesQ-811, and Q-902. The airway actions are described below.

A-15: A-15 currently extends between the Ethelda, BC, Canada, NDB and the Delta Junction, AK, NDB. This action removes the segment between the Intersection of Sisters Island 331°, and Whitehorse 207° radials and Beaver Creek, YT, NDB. The unaffected portions of the existing route remain as charted.

V-444: V-444 currently extends between the Barrow, AK, NDB and the Burwash, YT, NDB. This action removes the segment between the intersection of the Northway 138°, and Gulkana 079° and Burwash, YT, NDB. The unaffected portions of the existing route remain as charted. The portion within Canada is excluded.

J-502: J-502 currently extends between Seattle, WA and Kotzebue, AK. This action removes the segment between the Sister Island, AK, VORTAC and the Northway, AK, VORTAC. The unaffected portions of the existing route would remain as charted.

J-511: J-511 currently extends between Dillingham, AK and Burwash Landing, YT, Canada, NDB. This action removes the segment between the Gulkana VORTAC and the Burwash Landing, YT, Canada. The unaffected portions of the existing route would remain as charted.

Q-811: This action extends Canadian Area Navigation Route Q-811 to overly the existing J-511 to mitigate the route segments that cannot be supported by ground navigational facilities. Q-811 starts at Dillingham, AK and terminates at the newly established waypoint of IGSOM, which was established to replace the Burwash NDB, excluding that airspace in Canada.

Q-902: This action extends Canadian Area Navigation Route Q-902 to overlay the existing J-502 in its entirety, to mitigate route segments that cannot be supported by ground navigation facilities. Q-902 starts at Seattle, WA and terminates at Kotzebue, AK, excluding that airspace in Canada.

FAA Order 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this airspace action of amending of Federal airways A-15, and V-444, jet routesJ-502, and J-511, and Canadian Area Navigation Routes Q-811, and Q-902 qualifies for categorical exclusion under the National Environmental Policy Act (42 U.S.C. 4321 et seq.) and its implementing regulations at 40 CFR part 1500, and in accordance with FAA Order 1050.1F, Environmental Impacts: Policies and Procedures, paragraph5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 6009 Colored Federal Airways.

* * * * *

A-15 [Amended]

From Ethelda, BC, Canada, NDB; Nichols, AK, NDB; Sumner Strait, AK, NDB; Coghlan Island, AK, NDB; Haines, AK, NDB; Intersection of Sisters Island 311° (M), 331° (T), and Whitehorse 189° (M), 207° (T) radials; and then; Beaver Creek, YT, Canada, NDB; Nabesna, AK, NDB; to Delta Junction, AK, NDB. The airspace within Canada is excluded.

* * * * *

Paragraph 6010(b) Alaskan VOR Federal Airways.

* * * * *

V-444 [Amended]

From Barrow, AK, Evansville, AK, NDB; Bettles, AK; Fairbanks, AK; Big Delta, AK; Northway, AK; intersection of the Northway 120° (M), 138° (T), and Gulkana 062° (M), 079° (T) radials.

* * * * *

Paragraph 2004 Jet Routes.

* * * * *

J-502 [Amended]

From Seattle, WA; via Victoria, BC, Canada; Port Hardy, BC, Canada; Annette Island, AK; Level Island, AK; Sisters Island; and then; Northway, AK; Fairbanks, AK; to Kotzebue, AK, excluding the airspace within Canada.

* * * * *

J-511 [Amended]

From Dillingham, AK; via INT Dillingham 059° and Anchorage, AK 247° radials, to Anchorage, AK; Gulkana, AK.

* * * * *

Paragraph 2007 Canadian Area Navigation Routes.

* * * * *

Q-811 Dillingham, AK to IGSOM [New]
DILLINGHAM, AK (DLG) | VOR/DME | (Lat. 58°59′39.24″ N, long. 158°33′07.99″ W)
KOWOK, AK | FIX | (Lat. 59°12′31.22″ N, long. 157°50′52.40″ W)
SAHOK, AK | FIX | (Lat. 59°34′38.92″ N, long. 156°35′01.99″ W)
FAGIN, AK | WP | (Lat. 59°51′56.15″ N, long. 155°32′43.30″ W)
NONDA, AK | WP | (Lat. 60°19′15.50″ N, long. 153°47′57.60″ W)
AMOTT, AK | WP | (Lat. 60°52′26.59″ N, long. 151°22′23.60″ W)
GASTO, AK | WP | (Lat. 60°56′38.36″ N, long. 151°02′43.16″ W)
ANCHORAGE, AK (TED) | VOR/DME | (Lat. 61°10′04.32″ N, long. 149°57′36.51″ W)
GULKA N, AK (GKN) | VOR/DME | (Lat. 62°09′13.51″ N, long. 145°26′50.51″ W)
TOVAD, CAN | FIX | (Lat. 61°37′45.02″ N, long. 140°58′54.31″ W)
IGSOM, CAN | WP | (Lat. 61°22′14.38″ N, long. 139°02′23.81″ W)
* * * * *
Q-902 SEATTLE, WA to KOTZEBUE, AK [New]
SEATTLE, WA (SEA) | VORTAC | (Lat. 47°26′07.34″ N, long. 122°18′34.62″ W)
ORCUS, WA | WP | (Lat. 48°20′39.54″ N, long. 123°07′44.01″ W)
VICTORIA, CAN (YYJ) | VOR/DME | (Lat. 48°43′37.34″ N, long. 123°29′03.69″ W)
ARRUE, CAN | INT | (Lat. 49°04′23.00″ N, long. 124°07′47.00″ W)
ROYST, CAN | INT | (Lat. 49°35′29.00″ N, long. 125°07′35.00″ W)
PORT HARDY, CAN (YZT) | VOR/DME | (Lat. 50°41′02.90″ N, long. 127°21′55.10″ W)
PRYCE, CAN | INT | (Lat. 52°14′17.00″ N, long. 128°45′00.00″ W)
DUGGS, CAN | INT | (Lat. 53°02′05.00″ N, long. 129°30′12.00″ W)
HANRY, CAN | INT | (Lat. 54°36′23.00″ N, long. 131°05′36.00″ W)
ANNETTE ISLA N, AK (ANN) | VOR/DME | (Lat. 55°03′37.47″ N, long. 131°34′42.24″ W)
GESTI, AK | INT | (Lat. 55°25′57.47″ N, long. 131°57′50.40″ W)
DOOZI, AK | WP | (Lat. 55°37′57.14″ N, long. 132°10′28.73″ W)
LEVEL ISLA N, AK (LVD) | VOR/DME | (Lat. 56°28′03.75″ N, long. 133°04′59.21″ W)
HOODS, AK | WP | (Lat. 57°44′34.56″ N, long. 134°40′53.66″ W)
SISTERS ISLA N, AK (SSR) | VORTAC | (Lat. 58°10′39.58″ N, long. 135°15′31.91″ W)
IGSOM, CAN | WP | (Lat. 61°22′14.38″ N, long. 139°02′23.81″ W)
AYZOL, AK | WP | (Lat. 62°28′16.15″ N, long. 141°00′00.00″ W)
NORTHWAY, AK (ORT) | VORTAC | (Lat. 62°56′49.92″ N, long. 141°54′45.39″ W)
RDFLG, AK | WP | (Lat. 63°35′27.26″ N, long. 143°51′00.14″ W)
HRD N, AK | WP | (Lat. 64°18′04.42″ N, long. 146°12′01.50″ W)
FAIRBANKS, AK (FAI) | VORTAC | (Lat. 64°48′00.25″ N, long. 148°00′43.11″ W)
KOTZEBUE, AK (OTZ) | VOR/DME | (Lat. 66°53′08.46″ N, long. 162°32′23.77″ W)

* * * * *

Issued in Washington, DC, on July 9, 2021.
George Gonzalez,
Acting Manager, Rules and Regulations Group.

[FR Doc. 2021-14978 Filed 7-14-21; 8:45 am]

BILLING CODE 4910-13-P